DEPARTMENT OF STATE

[Public Notice 9394]

Notice of Public Meeting

The Department of State will conduct an open meeting at 10:30 a.m. on Monday, January 25, 2016, at the headquarters of the Radio Technical Commission for Maritime Services (RTCM) in Suite 605, 1611 N. Kent Street, Arlington, Virginia 22209. The primary purpose of the meeting is to prepare for the fortieth Session of the International Maritime Organization's (IMO) Facilitation Committee to be held at the IMO Headquarters, United Kingdom, April 4-8, 2016. This meeting is the first of two public meetings and is being held to solicit public comment on the cyber-related agenda items.

The agenda items to be considered include:

—Decisions of other IMO bodies

—Consideration and adoption of proposed amendments to the Convention

—Comprehensive review of the FAL Convention

—Requirements for access to, or electronic versions of, certificates and documents, including record books required to be carried on ships

—Guidelines on the facilitation aspects of protecting the maritime transport network from cyberthreats

—Technical cooperation activities related to facilitation of maritime traffic

—Relations with other organizations

—Application of the Committee's Guidelines

—Work programme

—Any other business

To better understand all aspects of the maritime industry's use of cyber systems, we are seeking specific input on the following questions:

—How has the maritime industry's increased reliance on digital information increased cyber risks associated with trade-related information (general declaration, cargo declaration, ship's stores declaration, crew's effects declaration, crew list, passenger list, dangerous goods manifest, universal postal convention, and maritime declaration of health)?

—What cyber risk management processes currently exist in the maritime industry to address the ongoing surge in the number, severity, and complexity of cyber attacks?

—To what extent would those involved in maritime trade benefit from guidance for the protection of trade-related information?

—What are industry constraints and limitations that should be addressed or recognized in any future guidance?

Members of the public may attend this meeting up to the seating capacity of the room. To facilitate the building security process, and to request reasonable accommodation, those who plan to attend should contact the meeting coordinator, Mr. David Du Pont, by email at David.A.DuPont@uscg.mil, or by phone at (202) 372-1497, not later than January 18, 2016. Requests made after January 18, 2016 might not be able to be accommodated. Additional information regarding this and other public meetings relating to IMO may be found at: www.uscg.mil/imo.

Dated: December 21, 2015.
Jonathan W. Burby,
Coast Guard Liaison Officer, Office of Ocean and Polar Affairs, Department of State.

[FR Doc. 2015-32748 Filed 12-28-15; 8:45 am]

BILLING CODE 4710-09-P